DEPARTMENT OF ENERGY

Federal Energy Regulatory Commission

Combined Notice of Filings #2

Take notice that the Commission received the following electric rate filings:

Docket Numbers: ER13-895-001.

Applicants: ISO New England Inc.

Description: Amendment to MR Chges to Modify DA Energy Market Sch. to be effective 12/31/9998.

Filed Date: 2/19/13.

Accession Number: 20130219-5168.

Comments Due: 5 p.m. ET 2/28/13.

Docket Numbers: ER13-949-000.

Applicants: Southern California Edison Company.

Description: Revised Added Facilities Rate for Agmts under WDAT 1 of 4 to be effective 1/1/2013.

Filed Date: 2/19/13.

Accession Number: 20130219-5109.

Comments Due: 5 p.m. ET 3/12/13.

Docket Numbers: ER13-950-000.

Applicants: Southern California Edison Company.

Description: Revised Added Facilities Rate for Agmts under WDAT 2 of 4 to be effective 1/1/2013.

Filed Date: 2/19/13.

Accession Number: 20130219-5116.

Comments Due: 5 p.m. ET 3/12/13.

Docket Numbers: ER13-951-000.

Applicants: Southern California Edison Company.

Description: Revised Added Facilities Rate for Agmts under WDAT 3 of 4 to be effective 1/1/2013.

Filed Date: 2/19/13.

Accession Number: 20130219-5122.

Comments Due: 5 p.m. ET 3/12/13.

Docket Numbers: ER13-952-000.

Applicants: Southern California Edison Company.

Description: Revised Added Facilities Rate for Agmts under WDAT 4 of 4 to be effective 1/1/2013.

Filed Date: 2/19/13.

Accession Number: 20130219-5134.

Comments Due: 5 p.m. ET 3/12/13.

Docket Numbers: ER13-953-000.

Applicants: Mesquite Solar 1, LLC.

Description: Mesquite Solar 1 LLC Joinder Agreement and Amendment to be effective 2/22/2013.

Filed Date: 2/19/13.

Accession Number: 20130219-5139.

Comments Due: 5 p.m. ET 3/12/13.

Docket Numbers: ER13-954-000.

Applicants: Northern States Power Company, a Minnesota corporation, Northern States Power Company, a Wisconsin corporation.

Description: 2013 Interchange Agreement to be effective 1/1/2013.

Filed Date: 2/19/13.

Accession Number: 20130219-5140.

Comments Due: 5 p.m. ET 3/12/13.

Docket Numbers: ER13-955-000.

Applicants: Mesquite Power, LLC.

Description: Mesquite Power, LLC Concurrence to Joinder Agreement and Amendment to be effective 2/22/2013.

Filed Date: 2/19/13.

Accession Number: 20130219-5151.

Comments Due: 5 p.m. ET 3/12/13.

Docket Numbers: ER13-956-000.

Applicants: Arizona Public Service Company.

Description: Arizona Public Service files three Mead Phoenix Project Service Agreements to be effective 4/22/2013.

Filed Date: 2/19/13.

Accession Number: 20130219-5155.

Comments Due: 5 p.m. ET 3/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2013.
Nathaniel J. Davis, Sr.,
Deputy Secretary.

[FR Doc. 2013-04432 Filed 2-26-13; 8:45 am]

BILLING CODE 6717-01-P